INTERNATIONAL TRADE COMMISSION

[Investigation No. 337-TA-693]

In the Matter of Certain Foldable Stools; Notice of a Commission Determination Not To Review an Initial Determination Terminating the Investigation as to All Respondents Based on Withdrawal of the Complaint; Termination of the Investigation

AGENCY: U.S. International Trade Commission.

ACTION: Notice.

SUMMARY: Notice is hereby given that the U.S. International Trade Commission has determined not to review an initial determination (“ID”) (Order No. 18) of the presiding administrative law judge (“ALJ”) terminating the above-captioned investigation based on withdrawal of the complaint.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 9, 2009, based on a complaint filed by B&R Plastics, Inc. (“B&R”) of Denver, Colorado. 74 FR. 65155-6 (Dec. 9, 2009). The complaint, as amended, alleges violations of section 337 of the Tariff Act of 1930, as amended, 19 U.S.C. 1337, in the importation into the United States, the sale for importation, and the sale within the United States after importation of certain foldable stools by reason of infringement of U.S. Patent No. D460,566. 75 FR 6706 (Feb. 10, 2010). The complaint, as amended, further alleges the existence of a domestic industry. The Commission's notice of investigation, as amended, named several respondents including the following: Amazon.com, Inc. of Seattle, Washington; Bed Bath & Beyond Inc. of Union, New Jersey; The Afternoon of Omaha, Nebraska; QVC, Inc. of West Chester, Pennsylvania; Kikkerland Design, Inc. of New York, New York; Buy.com of Aliso Viejo, California; LTD Commodities, LLC, d/b/a abc Distributing of Bannockburn, Illinois; Euromarket Designs, Inc., d/b/a Crate & Barrel of Northbrook, Illinois; The Container Store, Inc. of Coppell, Texas; Home Depot USA Inc. of Atlanta, Georgia; Ningbo ZhongTian Co., Ltd. (“Ningbo ZhongTian”) of China; Ningbo Ningfeng Import and Export Co. Ltd. (“Ningbo Ningfeng”) of China; and Always Something Brilliant (“ASB”) of Denver, Colorado.

On February 4, 2010, the Commission issued notice of its determination not to review the ALJ's ID granting B&R's motion to amend the complaint and notice of investigation to correct the names of certain respondents. 75 FR 6706 (Feb. 10, 2010). On March 18, 2010, the Commission issued notice of its determination not to review the ALJ's ID granting B&R's motion to terminate the investigation as to respondent Buy.com based on partial withdrawal of the complaint. Also, on April 15, 2010, the Commission issued notice of its determination not to review the ALJ's ID granting B&R's motion for a determination that respondents Ningbo ZhongTian, Ningbo Ningfeng, and ASB are in default based on their failure to respond to the complaint and notice of investigation.

On May 13, 2010, B&R moved to terminate the investigation as to all respondents based on withdrawal of the complaint.

The ALJ issued the subject ID on June 8, 2010, granting the motion for termination of the investigation. No party petitioned for review of the ID pursuant to 19 CFR 210.43(a), and the Commission found no basis for ordering a review on its own initiative pursuant to 19 CFR 210.44. The Commission has determined not to review the ID, and has terminated the investigation.

The authority for the Commission's determination is contained in section 337 of the Tariff Act of 1930, as amended, 19 U.S.C. 1337, and in §§ 210.21 and 210.42(h) of the Commission's of Practice and Procedure, 19 CFR 210.21, 210.42(h).

By order of the Commission.
Issued: June 25, 2010.
Marilyn R. Abbott,
Secretary to the Commission.

[FR Doc. 2010-15939 Filed 6-30-10; 8:45 am]

BILLING CODE 7020-02-P